NATIONAL COUNCIL ON DISABILITY

Sunshine Act Meetings

TIME AND DATES: The Members of the National Council on Disability (NCD) will hold a quarterly meeting Sunday, October 5, 2014 through Tuesday, October 7, 2014. On October 5, from 3:00 to 5:00 p.m., the Council will visit the National Center for Civil and Human Rights. On October 6, from 9:00 a.m. to 5:30 p.m., the Council will receive testimony about the school-to-prison pipeline. On October 7, the Council will have its business meeting from 9:00 a.m. to 12:15 p.m.

PLACE: The tour of the National Center for Civil and Human Rights on October 5 will take place at the museum at 100 Ivan Allen Jr. Blvd., Ivan Allen Jr Blvd., Atlanta, GA 30313. The quarterly meeting on October 6 and 7 will take place in the auditorium of the Shepherd Center, 2020 Peachtree St, Atlanta, GA 30309.

Interested parties may join the meeting in person or by phone in a listening-only capacity (with the exception of the public comment period) using the following call-in number: 1-888-312-3048; Conference ID: 7550293; Conference Title: NCD Meeting; Host Name: Jeff Rosen.

MATTERS TO BE CONSIDERED: The Council will receive testimony on the school-to-prison on October 6 and discuss the information with the intention of formulating draft recommendations. On October 7, the Council will receive updates on its policy projects; vote to approve a transportation report, a Medicaid managed care report; and its annual progress report; review draft findings and recommendations of its home- and community-based services report; discuss and approve its FY15 policy work scope; and discuss issues which impact the effectiveness of the ADA.

AGENDA: The times provided below are approximations for when each agenda item is anticipated to be discussed (all times Eastern):

Sunday, October 5, 2014

3:00-5:00 p.m.—NCD visit to the National Center for Civil and Human Rights

Monday, October 6, 2014

9:00-10:00 a.m.—Welcome, Introduction, Purpose of the meeting

10:00-11:00 a.m.—Panel: Barriers to minority access to an equal opportunity to benefit from IDEA

11:00 a.m.-12:30 p.m.—Breaking Down the Barriers

12:30-1:00 p.m.—Break

1:00-2:00 p.m.—Panel: How special education services can disrupt the school-to-prison pipeline

2:00-3:00 p.m.—Discussion: How we can ensure that minority students with disabilities have access to quality special education services?

3:00-3:15 p.m.—Break

3:00-3:15 p.m.—Break

3:15-5:15 p.m.—Discussion: Recommendations to Congress and the Administration on policies designed to end disparities in discipline and promote positive outcomes for minority students with disabilities

5:15-5:30 p.m.—Closing: Summary of the day's discussions

5:30 p.m.—Adjournment

Tuesday, October 7, 2014

9:00-9:30 a.m.—Call to Order and Council Reports

9:30-10:30 a.m.—NCD Policy Projects

10:30-10:45 a.m.—Break

10:45-11:45 a.m.—ADA 25th Anniversary Discussion

11:45 a.m.-12:15 p.m.—Public Comment

12:15 p.m.—Adjourn

PUBLIC COMMENT: To better facilitate NCD's public comment periods, any individual interested in providing public comment is asked to register their intent to provide comment in advance by sending an email to PublicComment@ncd.gov with the subject line “Public Comment” with your name, organization, state, and topic of comment included in the body of your email. Full-length written public comments may also be sent to that email address. All emails to register for public comment at the October quarterly meeting must be received by Thursday, October 2, 2014. Priority will be given to those individuals who are in-person to provide their comments. Those commenters on the phone will be called on according to the list of those registered via email. Due to time constraints, NCD asks all commenters to limit their comments to three minutes.

CONTACT PERSON FOR MORE INFORMATION: Anne Sommers, NCD, 1331 F Street NW., Suite 850, Washington, DC 20004; 202-272-2004 (V), 202-272-2074 (TTY).

ACCOMMODATIONS: A CART streamtext link has been arranged for each day of the business meeting. For Monday, beginning at 9:00 a.m., ET, the web link to access CART is http://www.streamtext.net/text.aspx?event=100614ncd0900am. For Tuesday, beginning at 9:00 a.m., ET, the web link to access CART is http://www.streamtext.net/text.aspx?event=100714ncd900am. Those who plan to attend the meeting in-person and require accommodations should notify NCD as soon as possible to allow time to make arrangements. Please note: To help reduce exposure to fragrances for those with multiple chemical sensitivities, NCD requests that all those attending the meeting in person please refrain from wearing scented personal care products such as perfumes, hairsprays, colognes, and deodorants.

Dated: September 18, 2014.
Rebecca Cokley,
Executive Director.

[FR Doc. 2014-22666 Filed 9-19-14; 11:15 am]

BILLING CODE 6820-MA-P